DEPARTMENT OF THE INTERIOR

Bureau of Indian Affairs

Swinomish Indian Tribal Community—Title 15, Chapter 4: Liquor Legalization, Regulation and License Code

AGENCY: Bureau of Indian Affairs, Interior.

ACTION: Notice.

SUMMARY: This notice publishes Title 15, Chapter 4: Liquor Legalization, Regulation and License Code for the Swinomish Indian Tribal Community. The Code regulates and controls the possession, sale and consumption of liquor within the Swinomish Indian Tribal Community's Indian country. This Code allows for the possession and sale of alcoholic beverages within the jurisdiction of the Swinomish Indian Tribal Community, will increase the ability of the tribal government to control the distribution and possession of liquor within their Indian country, and at the same time, will provide an important source of revenue, the strengthening of the tribal government and the delivery of tribal services.

DATES: Effective Date: This Ordinance is effective 30 days after July 5, 2012.

FOR FURTHER INFORMATION CONTACT: Betty Scissons, Tribal Government Specialist, Northwest Regional Office, Bureau of Indian Affairs, 911 NE. 11th Avenue, Portland, OR 97232, Phone: (503) 231-6723; Fax: (503) 231-6731: or De Springer, Office of Indian Services, Bureau of Indian Affairs, 1849 C Street NW., MS-4513-MIB, Washington, DC 20240; Telephone (202) 513-7626.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Swinomish Indian Tribal Community Senate adopted Ordinance No. 296, Enacting Swinomish Tribal Code Title 15, Chapter 4: Liquor Legalization, Regulation and License Code, on August 4, 2011.

This notice is published in accordance with the authority delegated by the Secretary of the Interior to the Assistant Secretary—Indian Affairs. I certify that the Swinomish Indian Tribal Community Senate adopted Ordinance No. 296, enacting Swinomish Tribal Code Title 15, Chapter 4: Liquor Legalization, Regulation and License Code, on August 4, 2011.

Dated: June 25, 2012.
Donald E. Laverdure
Acting Assistant Secretary—Indian Affairs.

The Swinomish Indian Tribal Community Title 15, Chapter 4: Liquor Legalization, Regulation and License Code shall read as follows:

15-04.010 Title

This Chapter shall be referred to as the Liquor Legalization, Regulation and License Code.

15-04.020 Authority

This Chapter is enacted pursuant to authority provided by Article VI, Section (1)(h), (k) and (1) of the Constitution. In addition, this Chapter is adopted in accordance with 18 U.C.S.A. § 1161.

15-04.030 Definitions

For purposes of this Chapter, unless otherwise expressly provided, the following definitions shall apply:

(A) “Engaging in the retail intoxicating beverage business” means either maintaining a retail liquor, beer and/or wine establishment within the Indian Country under the jurisdiction of the Tribe or making sales of liquor, beer and/or wine at retail within the Indian Country under the jurisdiction of the Tribe.

(B) “Indian country,” consistent with the meaning given in 18 U.S.C. 1151, 1154, and 1156, means:

(1) All land within the limits of the Swinomish Indian Reservation under the jurisdiction of the United States government, notwithstanding the issuance of any patent provided that the term “patent” does not include fee-patented lands in non-Indian communities; and

(2) All Indian allotments or other lands held in trust for a Swinomish tribal member or the Tribe, or otherwise subject to a restriction against alienation imposed by the United States, the Indian titles to which have not been extinguished.

(C) “Reservation” means all lands and waters within the exterior boundaries of the Swinomish Indian Reservation.

(D) “Senate” means the Swinomish Indian Senate.

(E) “Tribal License” means a license issued by the Swinomish Indian Tribal Community to any person, association, firm, corporation, or partnership, or any individual or group of individuals wishing to engage in the retail sale of liquor, beer and/or wine within the Indian Country under the jurisdiction of the Tribe.

(F) “Tribe” means the Swinomish Indian Tribal Community.

15-04.040 Legalizing the Introduction, Sale or Possession

The introduction, sale or possession of intoxicating beverages shall be lawful within the Indian Country under the jurisdiction of the Tribe, provided that such introduction, sale or possession is in conformity with the laws of the State of Washington and in conformity with this Chapter.

15-04.050 Application for Tribal License Required and License Fee

(A) Any person, association, firm, corporation, or partnership, or any individual or group of individuals engaged in the retail sale of intoxicating beverages within the Indian Country under the jurisdiction of the Tribe, regardless of whether the principal place of business is or is not located outside the Reservation, is required to have a Tribal License.

(B) A Tribal License shall run from July 1st of one year through the 30th day of June the following year. The Senate or the Senate's designee shall charge an annual fee in accordance with the attached fee schedule.

(C) Applicants for an initial Tribal License and those seeking to renew a Tribal License shall make application and pay the annual fee to the Senate or its designee by June 30th of each year for the ensuing year, except if an initial application is made between January 1st and July 1st, the license fee shall be cut in half.

(D) If the Senate or its designee denies an application for a Tribal License or denies an application to renew a Tribal License, the fee shall be returned to the applicant.

15-04.060 Investigation of Applicant for Tribal License

Before the Senate issues a Tribal License, the applicant shall be investigated as to moral character and as to whether or not such person is acceptable to the members of the Tribe to engage in a retail intoxicating beverage business within the Indian Country under the jurisdiction of the Tribe. The Senate or its designee may, in its discretion, set a time for public hearing and give reasonable notice for the time and place thereof before acting upon an application for a Tribal License.

15-04.070 Tribal License May Be Revoked

A Tribal License may be revoked only for cause and upon a hearing, conducted by the Senate or its designee, with notice being mailed by registered mail to the holder of the Tribal License ten (10) days prior to such hearing, except a Tribal License may not be transferred without the approval and consent of the Senate. The grounds for revocation of a Tribal License are:

(A) The failure to pay the Tribal License fee each year;

(B) The violation of tribal ordinances duly passed or the laws of the State of Washington;

(E) The acquisition of a Tribal License by fraud, misrepresentation, concealment, or through inadvertence or mistake;

(F) The denial of the Senate or its authorized representatives, including authorized law enforcement agencies, access to any place where a licensed activity is conducted, or the failure to promptly produce for inspection or audit any book, record, document, or item required by law or Senate rule;

(G) The denial, suspension, or repeal of any liquor-related license, permit, or certification by any tribal, state or federal regulatory agency; or

(H) Transfer or attempted transfer of a Tribal License without the approval and consent of the Senate.

15-04.080 Transfer of Tribal Licenses

(A) No Tribal License may be transferred without the approval of the Senate or its designee.

(B) Persons wishing to transfer a Tribal License must file an application for a transfer with the Senate or the Senate's designee. The application for a transfer shall include:

(1) The name(s) of the persons, group, or association to whom the transfer is to be made;

(2) Any other information required of initial applicants in accordance with Section 15-04.050; and

(3) A statement, signed by the proposed transferee, designating the location of the premises where the Tribal License is to be used and operated.

(C) Before any transfer of a Tribal License is approved, the Tribe shall investigate the moral character of the transferee and determine whether the proposed transferee is acceptable to the members of the Tribe to engage in said retail intoxicating beverage business within the Indian Country under the jurisdiction of the Tribe. The Senate may, in its discretion, set a time for public hearing and give reasonable notice of the time and place thereof before acting upon an application for transfer.

(D) The approval of a transfer of a Tribal License shall be given at a duly called, noticed and convened session of the Senate.

15-04.090 Notification of the Liquor Control Board

It shall be the responsibility of Tribal License holders to notify the Liquor Control Board of Washington State that an application has been made for a transfer of a Tribal License. The requisite Tribal License and state permit are required before any person, association, firm, corporation, or partnership, or any individual or group of individuals may engage in the retail sale of intoxicating beverages within the Indian Country under the jurisdiction of the Tribe.

15-04.100 Tribal Liquor License Fee Schedule

The following fees shall be assessed for license under this Chapter:

Beer and Wine Gift Delivery | $75.
Beer and Wine Specialty Shop | 100.
Grocery Store | 150.
International Exporter Endorsement | 500.
Motel | 500.
Nonprofit Arts Organization | 250.
Private Club—Beer and Wine | 180.
Private Club—Spirits, Beer and Wine | 720.
Non-Club Event Endorsement | 900.
Public House | 1,000.
Restaurant—Beer and/or Wine
Beer | 200.
Wine | 200.
Off-Premises | 120.
Caterer's Endorsement | 350.
Restaurant—Spirits, Beer, & Wine
Less than 50% Dedicated Dining Area | 2,000.
50% or More Dedicated Dining Area | 1,600.
Service Bar Only | 1,000.
Caterer's Endorsement | 350.
Duplicate License
Airport Terminal | 25% of annual license fee.
Civic Center | 10.
Privately Owned Facility Open to the Public | 20.
Snack Bar | 125.
Sports/Entertainment Facility | 2,500.
Caterer's Endorsement | 350.
Tavern—No Persons Under 21 Allowed
Beer | 200.
Wine | 200.
Off-Premises | 120.

15-04.110 Senate Regulations

The Senate may promulgate regulations consistent with this Chapter and applicable state and federal law that alter the amount or categories of fees to be paid and that further describe the process to be followed in license application, issuance, renewal, revocation or suspension, or transfer.

15-04.120 Repealer

Any tribal laws, resolutions or ordinances that prohibited the sale, introduction or possession of intoxicating beverages are repealed. Ordinance No. 27 is repealed. The Swinomish Liquor Regulations promulgated August 4, 2011, are repealed.

15-04.130 Effective Date

This Chapter shall become effective upon approval by the Secretary of the Interior and publication of the ordinance in the Federal Register in accordance with 18 U.S.C. 1161.

[FR Doc. 2012-16382 Filed 7-3-12; 8:45 am]

BILLING CODE 4310-4J-P